DEPARTMENT OF TRANSPORTATION

Federal Railroad Administration

[Docket No. FRA-2000-7257, Notice No. 7]

Northeast Corridor Safety Advisory Committee; Notice of Meeting

AGENCY: Federal Railroad Administration (FRA), Department of Transportation (DOT).

ACTION: Announcement of Northeast Corridor Safety Advisory Committee (NECSC) Meeting.

SUMMARY: FRA announces the fifth meeting of the Northeast Corridor Safety Committee, a Federal Advisory Committee mandated by section 212 of the Passenger Rail Investment and Improvement Act of 2008 (PRIIA). The NECSC is made up of stakeholders operating on the Northeast Corridor, and the purpose of the NECSC is to provide annual recommendations to the Secretary of Transportation. NECSC meeting topics will include a presentation on recent FRA safety advisories and emergency orders, Amtrak derailment safety lessons learned, vehicle intrusions at other-than-grade crossings, NEC Positive Train Control implementation timeline/issues and challenges, and a general discussion of safety issues.

DATES: The NECSC meeting is scheduled to commence at 9:30 a.m. on Wednesday, November 18, 2015, and will adjourn by 4:30 p.m.

ADDRESSES: The NECSC meeting will be held at the National Housing Center located at 1201 15th Street NW., Washington, DC 20005. The meeting is open to the public on a first-come, first-served basis, and is accessible to individuals with disabilities. Sign and oral interpretation can be made available if requested 10 calendar days before the meeting.

FOR FURTHER INFORMATION CONTACT: Larry Woolverton, RSAC/NECSC Administrative Officer/Coordinator, FRA, 1200 New Jersey Avenue SE., Mailstop 25, Washington, DC 20590, (202) 493-6212; or Robert Lauby, Associate Administrator for Railroad Safety and Chief Safety Officer, FRA, 1200 New Jersey Avenue SE., Mailstop 25, Washington, DC 20590, (202) 493-6474.

SUPPLEMENTARY INFORMATION: The NECSC is mandated by a statutory provision in section 212 of the PRIIA (codified at 49 U.S.C. 24905(f)). The NECSC is chartered by the Secretary of Transportation and is an official Federal Advisory Committee established in accordance with the provisions of the Federal Advisory Committee Act, as amended, 5 U.S.C. title 5-Appendix.

Issued in Washington, DC, on October 8, 2015.
Robert C. Lauby,
Associate Administrator for Railroad Safety Chief Safety Officer.

[FR Doc. 2015-26135 Filed 10-14-15; 8:45 am]

BILLING CODE 4910-06-P